DEPARTMENT OF COMMERCE

National Oceanic and Atmospheric Administration

Proposed Information Collection; Comment Request; Alaska Region Pacific Halibut Fisheries: Charter

AGENCY: National Oceanic and Atmospheric Administration (NOAA), Commerce.

ACTION: Notice.

SUMMARY: The Department of Commerce, as part of its continuing effort to reduce paperwork and respondent burden, invites the general public and other Federal agencies to comment on proposed and/or continuing information collections, as required by the Paperwork Reduction Act of 1995.

DATES: To ensure consideration all comments must be submitted on or before April 24, 2020.

ADDRESSES: Direct all written comments to Adrienne Thomas, PRA Officer, NOAA, 151 Patton Avenue, Room 159, Asheville, NC 28801 (or via the internet at PRAcomments@doc.gov). All comments received are part of the public record. Comments will generally be posted without change. All Personally Identifiable Information (for example, name and address) voluntarily submitted by the commenter may be publicly accessible. Do not submit Confidential Business Information or otherwise sensitive or protected information.

FOR FURTHER INFORMATION CONTACT: Requests for additional information or copies of the information collection instrument and instructions should be directed to Kurt Iverson, National Marine Fisheries Service, P.O. Box 21668, Juneau, AK 99802-1668; 907-586-7228.

SUPPLEMENTARY INFORMATION:

I. Abstract

The National Marine Fisheries Service (NMFS) is requesting revision and extension of a currently approved information collection. This information collection is revised to include the collection instruments approved under OMB Control Number 0648-0592, after which that control number will be discontinued. This revised collection contains permitting, recordkeeping, and reporting requirements for the guided sport (charter) halibut fishery and the title will be slightly altered to “Alaska Pacific Halibut Fisheries: Charter.”

Management of and regulations for Pacific halibut in Alaska are developed on the international, Federal, and state levels by the International Pacific Halibut Commission (IPHC), the North Pacific Fishery Management Council, NMFS Alaska Region, and the State of Alaska Department of Fish and Game (ADF&G). The IPHC and NMFS manage fishing for Pacific halibut through regulations established under authority of the Convention between the United States Halibut Fishery of the Northern Pacific Ocean and Bering Sea, the Northern Pacific Halibut Act of 1982, 16 U.S.C. 773, and Section 303(b) of the Magnuson-Stevens Fishery Conservation and Management Act (16 U.S.C. 1801 et seq.). Regulations that implement this collection-of-information are found at 50 CFR 300 subpart E and at 50 CFR 679.5(l)(7).

NMFS manages the charter halibut fishery in IPHC Regulatory Areas (Areas) 2C and 3A under the Charter Halibut Limited Access Program, which limits the number of operators in the charter halibut fishery. All vessel operators in Areas 2C and 3A with charter anglers on board must have an original, valid Federal charter halibut permit (CHP) on board during every charter vessel fishing trip on which Pacific halibut are caught and retained. As the application period to obtain a CHP (other than a military CHP or community CHP) ended in 2010, CHPs may now only be obtained through transfer. This information collection contains the application forms used to annually register CHPs, to apply for new military CHPs, and to transfer CHPs. Information collected by these applications include permit holder information or applicant information, and depending on the form, may include CHP identification, CHP ownership information and affiliation, a survey question on the use of the CHP, and transaction information for transfer of a CHP.

NMFS manages the charter halibut sector in Areas 2C and 3A to charter catch limits established under the Pacific Halibut Catch Sharing Plan (CSP). The CSP authorizes annual transfers of commercial halibut Individual Fishing Quota (IFQ) as guided angler fish (GAF) to CHP holders for harvest in the charter halibut fishery. GAF offers CHP holders in Area 2C or Area 3A an opportunity to lease a limited amount of IFQ from commercial quota share holders to allow charter clients to harvest halibut in addition to, or instead of, the halibut harvested under the daily bag limit for charter anglers. This information collection contains the application used to transfer Area 2C or 3A commercial halibut IFQ to a CHP holder for use as GAF or for the CHP holder to return unused GAF to the IFQ permit holder from which it was obtained. Information collected by the application includes permit holder information, IFQ permit information, CHP information, GAF permit information, and transaction information. NMFS, on approving the transfer of IFQ to GAF, issues a GAF permit, which authorizes the holder to allow charter vessel anglers to retain GAF halibut caught in the IPHC regulatory area specified on the permit.

This information collection also contains the GAF landing report and the GAF permit log, The GAF landing report is submitted by GAF permit holders and collects information on each GAF halibut retained by an angler on a charter vessel fishing trip in Area 2C or 3A. The GAF permit log, which is printed on the back of each GAF permit, is used by the GAF permit holder to record the GAF landing report confirmation number and information on GAF halibut after a trip in which GAF halibut were retained.

Federal regulations at 50 CFR 300.65 require charter vessel operators fishing in Areas 2C and 3A to comply with the ADF&G annual registration of sport fishing guides and businesses and ADF&G Saltwater Sport Fishing Charter Trip Logbook (Charter Logbook). This information collection contains the Charter Logbook, which is the primary recordkeeping and reporting requirement for charter vessel operators for all species harvested in saltwater in Areas 2C and 3A. The logbook collects information including where and when charter fishing occurs and the species and numbers of fish kept and released by the individual charter anglers.

II. Method of Collection

Information is collected primarily via mail or fax. The application forms are available as fillable pdfs on the NMFS Alaska Region website and may be downloaded, completed, and printed out prior to submission. The GAF landing report is submitted online through eFISH on the NMFS Alaska Region website. If a GAF permit holders is unable to submit a GAF landing report electronically, the GAF permit holder must contact NOAA Office of Law Enforcement by telephone.

III. Data

OMB Control Number: 0648-0575.

Form Number(s): None.

Type of Review: Revision and extension of a current information collection.

Affected Public: Business or other for-profit organizations; Individuals or households.

Estimated Number of Respondents: 639.

Estimated Time per Response: 15 minutes for Application for Annual Registration of Charter Halibut Permits (CHPs); 0.5 hour for Application of Military CHP; 2 hours for Application for Transfer of CHP; 1.5 hours for Application for Transfer Between IFQ and GAF and Issuance of GAF Permit; 5 minutes for GAF Landing Report; 2 minutes for GAF Permit Log; 4 minutes for ADF&G Saltwater Sport Fishing Charter Trip Logbook; and 4 hours for Appeals.

Estimated Total Annual Burden Hours: 3,403.

Estimated Total Annual Cost to Public: $11,198 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Department PRA Clearance Officer, Office of the Chief Information Officer, Commerce Department.

[FR Doc. 2020-03624 Filed 2-21-20; 8:45 am]

BILLING CODE 3510-22-P